DEPARTMENT OF HEALTH AND HUMAN SERVICES

Announcement of Requirements and Registration for What's In Your Health Record Video Challenge

AGENCY: Office of the National Coordinator for Health Information Technology, HHS.

Award Approving Official: Lygeia Ricciardi, Director, Office of Consumer eHealth.

ACTION: Notice.

SUMMARY: The Office of the National Coordinator for Health Information Technology (ONC) announces the launch of the What's In Your Health Record Video Challenge. This challenge is an open call for the public to create and submit short, compelling videos sharing how getting access to your health record and checking the information can help make sure you or your loved one get the best care. Having access to your health record is fundamental to your ability to participate in your health care.

Patients and their families have a legal right under the HIPAA Privacy Rule to request to see and get a copy of their health record (“right to access”) from most doctors, hospitals and other health care providers, such as pharmacies and nursing homes, as well as from their health plans. Patients can use that information to better understand their health, to coordinate their care with other health care providers or to help identify possible errors or omissions in their medical records. Patients can get access to their health information through a patient portal, or a personal health record (PHR) or by email.

This is the third in a series of Health IT video contests that will occur throughout 2012. The video contests are one way to crowd source stories from the public about how they are benefiting from health information technology (health IT). This is one way ONC is working to motivate and inspire individuals to play a more active role in their health. Each video contest will be a call to action for members of the public to create a short video clip [2 minutes or less] on a particular topic, and will award cash prizes to winners in several categories.

DATES: Effective on July 2, 2012.

FOR FURTHER INFORMATION CONTACT: Erin Poetter, Consumer e-Health Policy Analyst, erin.poetter@hhs.gov 202.205.3310.

SUPPLEMENTARY INFORMATION:

Subject of Challenge Competition

The What's In Your Record? Video Challenge invites you to create a short, compelling video (<2 min in length) sharing a personal story about how getting access (electronic or paper copy) to view your health record and knowing what's inside helped make sure you or your loved one got the best care. Being able to view what's in our medical record can empower us to play a more active role in our health care by allowing us to check to make sure the information on file is correct and complete (e.g. make sure no medications or allergies are missing), and that all the people who care for us have the right information available to make the best decisions about our health (e.g. if you are changing doctors or getting a second opinion from a specialist).

Eligibility Rules for Participating in the Competition

To be eligible to win a prize under this challenge, an individual or entity—

(1) Shall have registered to participate in the competition under the rules promulgated by HHS;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment.

(5) Shall not be an HHS employee working on their applications or submissions during assigned duty hours.

(6) Shall not be an employee of the Office of the National Coordinator

(7) Federal grantees may not use Federal funds to develop COMPETES Act challenge applications unless consistent with the purpose of their grant award.

(8) Federal contractors may not use Federal funds from a contract to develop COMPETES Act challenge applications or to fund efforts in support of a COMPETES Act challenge submission.

All individual members of a team must meet the eligibility requirements.

An individual or entity shall not be deemed ineligible because the individual or entity used Federal facilities or consulted with Federal employees during a competition if the facilities and employees are made available to all individuals and entities participating in the competition on an equitable basis.

Registration Process for Participants

1. During the Challenge Submission Period, visit http://YourRecord.Challenge.gov and register (Registration is free) or log in with an existing ChallengePost account. After a Contestant signs up, a confirmation email will be sent to the email address provided. The Contestant must use the confirmation email to verify his or her email address. The registered Contestant will then be able to enter a Submission.

2. On YourRecord.Challenge.gov, click “Accept this challenge” to register your interest in participating. This step ensures that you will receive important challenge updates.

3. Create a video and ensure the following (please read the Official Rules on http://YourRecord.challenge.gov for complete requirements):

a. Your video addresses questions such as:

i. What prompted you to ask for access to your health record?

ii. What did you find when you reviewed your health record?

iii. How did you, or your health care provider, improve your quality of care or that of a loved one after gaining access to your health record? In other words, what was the benefit of being able to view what was in your record?

iv. What did you, or your provider learn from accessing your health record? Was any information missing or incorrect?

v. What kinds of things were you able to do with your record once you had access to it? Share it with other providers? Check to make sure the information was correct? What else?

b. Your video gives a specific example (personal story, experience, testimonial, or thoughtful idea) of the benefits of having access to view your health record and the ability to review what is in your health record.

c. Your video encourages viewers to visit www.HealthIT.gov and to ask their health care provider to see and get a copy of their medical record.

d. Your video is no longer than 2 minutes.

4. Confirm that you have read and agreed to the Official Rules. A Contestant will be required to fill out the submission form on YourRecord.Challenge.gov and must provide:

• The title of the Video;

• A link to the Video on YouTube.com or Vimeo.com (the Video should be no longer than 2 minutes);

• A text description of how you or a loved one benefitted from having access to your health record

• A transcript of the words spoken or sung in the video; and

• Uploaded consent forms for everyone who appears in the video regardless of age.

All individuals that appear in a Video must complete and sign the Video Consent Form. If a minor appears in the Video, the minor's parent/legal guardian must also sign the Video Consent Form. A Submission will not be considered complete and eligible to win prizes without a completed Video Consent Form being uploaded from all individuals that appear in the Video. All completed Video Consent Forms must include a handwritten signature, and be scanned, combined in to a single file (ZIP, PDF, or doc), and uploaded on the submission form on BloodPressure.Challenge.gov.

Amount of the Prize

Winner | Prize | Quantity
First Prize | $3,000 | 1
Second Prize | 2,000 | 1
Third Prize | 1,000 | 1
Honorable Mention | 500 | 2
Popular Choice Award | 700 | 1

Basis Upon Which Winner Will Be Selected

Submissions that meet category requirements will be evaluated by an internal panel of judges for Category Prizes based on the following criteria (to be equally weighted):

1. Quality of the Story (Includes elements such as the authenticity and originality of your story and how you described getting a copy of your information and using it to improve your quality of care or the care of a loved one.)

2. Potential Impact for motivating and inspiring others to access their health record (Includes whether the video is compelling, instructive, and easy to follow so that others can achieve similar benefits after gaining access to their health record.)

The five (5) Contestants whose Submissions earn the highest overall score will win, the prize money as outlined in the chart. In the event of a tie, winners will be selected based on their score on the criteria described in (1) and then (2). If there is still a tie then the winner will be selected based on a vote by the judging panel.

Authority: 15 U.S.C. 3719.

Dated: June 28, 2012.
Erin Poetter,
Consumer e-Health Policy Analyst, Office of the National Coordinator for Health Information Technology (ONC), Office of the Secretary (OS).

[FR Doc. 2012-16821 Filed 7-9-12; 8:45 am]

BILLING CODE 4150-45-P